DEPARTMENT OF THE INTERIOR

National Park Service

[NPS-WASO-NAGPRA-23000; PPWOCRADN0-PCU00RP14.R50000]

Notice of Inventory Completion: Museum of Northern Arizona, Flagstaff, AZ; Correction

AGENCY: National Park Service, Interior.

ACTION: Notice; correction.

SUMMARY: The Museum of Northern Arizona has corrected an inventory of human remains and associated funerary objects, published in a Notice of Inventory Completion in the Federal Register on September 11, 2006. This notice corrects the number of associated funerary objects. Lineal descendants or representatives of any Indian tribe or Native Hawaiian organization not identified in this notice that wish to request transfer of control of these human remains and associated funerary objects should submit a written request to the Museum of Northern Arizona. If no additional requestors come forward, transfer of control of the human remains and associated funerary objects to the lineal descendants, Indian tribes, or Native Hawaiian organizations stated in this notice may proceed.

DATES: Lineal descendants or representatives of any Indian tribe or Native Hawaiian organization not identified in this notice that wish to request transfer of control of these human remains and associated funerary objects should submit a written request with information in support of the request to the Museum of Northern Arizona at the address in this notice by April 12, 2017.

ADDRESSES: Elaine Hughes, Museum of Northern Arizona, 3101 North Fort Valley Road, Flagstaff, AZ 86001, telephone (928) 774-5211 x228, email ehughes@musnaz.org.

SUPPLEMENTARY INFORMATION: Notice is here given in accordance with the Native American Graves Protection and Repatriation Act (NAGPRA), 25 U.S.C. 3003, of the correction of an inventory of human remains and associated funerary objects under the control of the Museum of Northern Arizona, Flagstaff, AZ. The human remains and associated funerary objects were removed from the Cashion site (NA14690), Maricopa County, AZ.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

This notice corrects the number of associated funerary objects published in a Notice of Inventory Completion in the Federal Register (71 FR 53469-53470, September 11, 2006). These additional associated funerary objects were located during a comprehensive inventory prior to the legal transfer of the Cashion site (NA14690) collections to the ownership of the Salt River Pima-Maricopa Indian Community of the Salt River Reservation, Arizona. Transfer of control of the items in this correction notice has not occurred.

Correction

In the Federal Register (71 FR 53469, September 11, 2006), column 3, paragraph 1, sentence 5, is corrected by substituting the following sentence:

The 800 associated funerary objects are 325 pottery and ceramic fragments; 102 jewelry items and fragments; 1 reed mat; 2 different pieces of cloth; 123 soil, faunal bone, C-14, pollen, and wood samples; and 247 tools and implements.

In the Federal Register (71 FR 53470, September 11, 2006), column 1, paragraph 1, sentence 2, is corrected by replacing the number “796” with the number “800.”

Additional Requestors and Disposition

Lineal descendants or representatives of any Indian tribe or Native Hawaiian organization not identified in this notice that wish to request transfer of control of these human remains and associated funerary objects should submit a written request with information in support of the request to Elaine Hughes, Museum of Northern Arizona, 3101 North Fort Valley Road, Flagstaff, AZ 86001, telephone (928) 774-5211 x228, email ehughes@musnaz.org, by April 12, 2017. After that date, if no additional requestors have come forward, transfer of control of the human remains and associated funerary objects to the Ak-Chin Indian Community (previously listed as the Ak-Chin Indian Community of the Maricopa (Ak Chin) Indian Reservation, Arizona); Gila River Indian Community of the Gila River Indian Reservation, Arizona; Hopi Tribe of Arizona; Salt River Pima-Maricopa Indian Community of the Salt River Reservation, Arizona; Tohono O'odham Nation of Arizona; and Zuni Tribe of the Zuni Reservation, New Mexico may proceed.

The Museum of Northern Arizona is responsible for notifying the Ak-Chin Indian Community (previously listed as the Ak-Chin Indian Community of the Maricopa (Ak Chin) Indian Reservation, Arizona); Gila River Indian Community of the Gila River Indian Reservation, Arizona; Hopi Tribe of Arizona; Salt River Pima-Maricopa Indian Community of the Salt River Reservation, Arizona; Tohono O'odham Nation of Arizona; and Zuni Tribe of the Zuni Reservation, New Mexico that this notice has been published.

Dated: February 23, 2017.
Melanie O'Brien,
Manager, National NAGPRA Program.

[FR Doc. 2017-04853 Filed 3-10-17; 8:45 am]

BILLING CODE 4312-52-P